NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by January 27, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-035

1. Applicant: George Papagapitos, Swan Hellenic Cruises, 1800 SE 10th Ave., Suite 240, Fort Lauderdale, FL 33316

Activity for Which Permit Is Requested

Enter Antarctic Specially Protected Area. The applicant seeks an ACA permit to enter Antarctic Specially Protected Areas (ASPA) for the purposes of educational visits to historic huts at Cape Evans, Cape Royds, and Hut Point. All visits would be in accordance with the management plans for each ASPA.

Location

ASPA 155—Cape Evans, Ross Island; ASPA 157—Backdoor Bay, Cape Royds, Ross Island; ASPA 158—Hut Point, Ross Island.

Dates of Permitted Activities

February 15, 2023-March 15, 2023.

Erika N. Davis,
Program Specialist, Office of Polar Programs.

[FR Doc. 2022-28227 Filed 12-27-22; 8:45 am]

BILLING CODE 7555-01-P